DEPARTMENT OF JUSTICE

Notice of Lodging of Consent Decree Under the Clean Air Act

Notice is hereby given that on February 5, 2007, a proposed consent decree (“Consent Decree”) in the matter of United States vs. Agrium U.S. Inc. and Royster-Clark, Inc., Civil Action No. 1-07-CV-0089, was lodged with the United States District Court for the Southern District of Ohio, Western Division.

The Consent Decree would resolve claims of the United States against Agrium U.S. Inc. and Royster-Clark, Inc. (collectively “Defendants”) asserted in a complaint filed against the Defendants pursuant to Sections 113(b) and 167 of the Clean Air Act (“the Act”), 42 U.S.C. 7413(b) and 7477, for injunctive relief and the assessment of civil penalties for violations at a nitric acid production facility located at 10743 Brower Road, Hamilton County, North Bend, Ohio (“Facility”) of: The Prevention of Significant Deterioration (“PSD”) provisions of the Act, 42 U.S.C. 7470-92, and the PSD regulations incorporated into the federally approved and enforceable Ohio State Implementation Plan (“Ohio SIP”); the New Source Performance Standards (“NSPS”) of the Act, 42 U.S.C. 7411; the Title V Permit requirements of the Act, 42 U.S.C. 7661, et seq., and Title V's implementing Federal (40 CFR Part 70) and Ohio regulations (OAC Chapter 3745-77); and the Ohio SIP Permit to Install requirements (OAC 3745-31-02(A)).

The proposed Consent Decree would require, among other things, that the Defendants: Install a selective catalytic reduction device and achieve specified emission limits to control the emissions of nitrogen oxides (“NOx”) from the nitric acid plant at the Facility upon a schedule specified in the Consent Decree; install a continuous emissions monitoring system to measure NOx emissions at the Facility's nitric acid plant; apply for a permit to install from Ohio's permitting authorities incorporating various requirements of the Consent Decree and submit all necessary applications to revise the Facility's Clean Air Act Title V operating permit to incorporate certain requirements specified in the Consent Decree; and, pay a civil penalty to the United States in the amount of $750,000.00.

The Department of Justice will receive, for a period of thirty (30) days from the date of this publication, comments relating to the proposed Consent Decree. Comments should be addressed to the Assistant Attorney General, Environment and Natural Resources Division, United States Department of Justice, P.O. Box 7611, Ben Franklin Station, Washington, DC 20044-7611, and should refer to United States v. Agrium U.S. Inc. and Royster-Clark, Inc., DOJ Ref. 90-5-2-1-08469.

The Consent Decree may be examined at the Office of the United States Attorney for the Southern District of Ohio, 221 East 4th Street, Suite 400, Cincinnati, Ohio 45202 and at the offices of the United States Environmental Protection Agency, Region 5, 77 W. Jackson Blvd., Chicago, Illinois 60604. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov, fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

William D. Brighton,
Assistant Chief, Environmental Enforcement Section, Environment and Natural Resources, Division.

[FR Doc. 07-688 Filed 2-14-07; 8:45 am]

BILLING CODE 4410-15-M